DEPARTMENT OF HOMELAND SECURITY

Federal Emergency Management Agency

44 CFR Part 67

[Docket No. FEMA-B-7706]

Proposed Flood Elevation Determinations

AGENCY: Federal Emergency Management Agency, DHS.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Division, Federal Emergency Management Agency, 500 C Street, SW., Washington, DC 20472 (202) 646-3151.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act

This proposed rule is categorically excluded from the requirements of 44 CFR part 10, Environmental Consideration. An environmental impact assessment has not been prepared.

Regulatory Flexibility Act

As flood elevation determinations are not within the scope of the Regulatory Flexibility Act, 5 U.S.C. 601-612, a regulatory flexibility analysis is not required.

Regulatory Classification

This proposed rule is not a significant regulatory action under the criteria of section 3(f) of Executive Order 12866 of September 30, 1993, Regulatory Planning and Review, 58 FR 51735.

Executive Order 13132, Federalism

This proposed rule involves no policies that have federalism implications under Executive Order 13132.

Executive Order 12988, Civil Justice Reform

This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground: Effective | * Elevation in feet (NGVD) + Elevation in feet (NAVD) # Depth in feet above ground: Modified | Communities affected
Cleveland County, Oklahoma, and Incorporated Areas
Dave Blue Creek North | Approximately 100 feet downstream of State Highway 9 | None | +1120 | City of Norman.
| Approximately 3000 feet upstream from State Highway 9 | None | +1131
East Rock Creek | Approximately 500 feet downstream from 36th Ave | None | +1118 | City of Norman.
| Approximately 4500 feet upstream from 36th Ave | None | +1139
Stream B | Approximately 1000 feet upstream from confluence with North Fork River | *1143 | +1142 | City of Moore.
| Approximately 1900 feet upstream from SE 19th St | None | +1165
Tributary 0 of Canadian River Tributary 1 | Confluence with Canadian Tributary 1 | *1178 | +1179 | City of Moore. |  | Approximately 700 feet upstream from North Nottingham Way | None | +1290 | City of Oklahoma City.
* National Geodetic Vertical Datum.
# Depth in feet above ground.
+ North American Vertical Datum.
ADDRESSES
City of Moore
Maps are available for inspection at 301 North Broadway, Moore, OK 73160.
Send comments to The Honorable Glenn Lewis, Mayor, City of Moore, 301 North Broadway, Moore, OK 73160.
City of Norman
Maps are available for inspection at 201 South Jones, Norman, OK 73068.
Send comments to The Honorable Harold Haralson, Mayor, City of Norman, 210 West Gray, Norman, OK 73069.
City of Oklahoma City
Maps are available for inspection at 420 West Main, Suite 700, Oklahoma City, OK 73102.
Send comments to The Honorable Mick Cornett, Mayor, City of Oklahoma City, 200 North Walker, Street 3rd Floor, Oklahoma City, OK 73102.
York County, South Carolina, and Incorporated Areas
Sugar Creek | At the confluence with the CatawbaRiver | *493 | +487 | York County (Unincorporated Areas).
| At the Railroad Bridge at the York County, SC and Mecklenburg County, NC county line | *536 | +538
* National Geodetic Vertical Datum.
# Depth in feet above ground.
+ North American Vertical Datum.
ADDRESSES
York County (Unincorporated Areas)
Maps are available for inspection at 6 South Congress Street, York, SC 29745.
Send comments to Alfred W. Greene, County Manager, York County, P.O. Box 66, York, SC 29745.

(Catalog of Federal Domestic Assistance No. 83.100, “Flood Insurance.”)

David I. Maurstad,
Director, Mitigation Division, Federal Emergency Management Agency, Department of Homeland Security.

[FR Doc. E7-2146 Filed 2-8-07; 8:45 am]

BILLING CODE 9110-12-P